DEPARTMENT OF COMMERCE

National Oceanic and Atmospheric Administration

RIN: 0648-XU25

Caribbean Fishery Management Council; Public Meeting

AGENCY: National Marine Fisheries Service (NMFS), National Oceanic and Atmospheric Administration (NOAA), Commerce.

ACTION: Notice of a public meeting.

SUMMARY: The Caribbean Fishery Management Council's (CFMC) Scientific and Statistical Committee (SSC) will hold a meeting. The meeting is open to the public, and will be conducted in English.

DATES: The SSC meeting will be held on March 2-4, 2010. The SSC will convene on March 2, 3, and 4, 2010, from 9:30 a.m. until 5 p.m.

ADDRESSES: The meeting will be held at the Hilton Miami Downtown, 1601 Biscayne Boulevard, Miami, FL 33132

FOR FURTHER INFORMATION CONTACT: Caribbean Fishery Management Council, 268 Munoz Rivera Avenue, Suite 1108, San Juan, Puerto Rico 00918-1920, telephone: (787) 766-5926.

SUPPLEMENTARY INFORMATION: The SSC will meet to discuss the items contained in the following agenda:

March 2, 2010

•Call to order

•Adoption of Agenda

•Proposed Revision of Commercial Data Collection Process

-Presentation by Steve Turner

-Puerto Rico's Data Collection - DNER

-USVI Data Collection - DPNR

-Discussion

•Proposed Revision of Marine Recreational Data Collection Process (Now MRIP)

•Proposed Revision of Highly Migratory Species (HMS) Data Collection Process

March 3. 2010

•Call to Order

•Proposed Fishery Independent Data Collection Project

-Presentation by Todd Gedamke

-Discussion

•Information on Density Ratio Control Rules Using Marine Reserves

-Presentation by Alec McCall

-Discussion

•Other Proposed Research/Monitoring Projects

March 4, 2010

•Call to Order

•Development of Projects to Recruit Talented Individuals into the Discipline of Stock Assessment in the U.S. Caribbean

-Presentation by Jim Berkson

-Discussion

•Prioritization of Proposed Research and Monitoring Projects

-Discussion

•Creation of Formal Report for CFMC

•Next Meeting

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

This meeting is physically accessible to people with disabilities. For more information or request for sign language interpretation and/other auxiliary aids, please contact Mr. Miguel A. Rolon, Executive Director, Caribbean Fishery Management Council, 268 Munoz Rivera Avenue, Suite 1108, San Juan, Puerto Rico 00918-1920, telephone: (787) 766-5926, at least 5 days prior to the meeting date.

Dated: February 3, 2010.
William D. Chappell,
Acting Director, Office of Sustainable Fisheries, National Marine Fisheries Service.

[FR Doc. 2010-2639 Filed 2-5-10; 8:45 am]

BILLING CODE 3510-22-S